DEPARTMENT OF ENERGY

Federal Energy Regulatory Commission

[Docket No. RM01-12-000]

Electricity Market Design and Structure; Notice of Workshops

September 28, 2001.

A series of commissioner-led workshops will be held October 15 through October 19, 2001, beginning at 10 a.m., in the Commission meeting room at the Federal Energy Regulatory Commission, 888 First Street, NE., Washington, DC.

The purpose of the workshops is to discuss core issues related to the development of efficient electric markets in an era where electric transmission systems will be operated by Regional Transmission Organizations. These issues include, but are not limited to, necessary market information, congestion management, cost recovery, market monitoring, transmission planning, business and reliability standards, the nature of transmission rights, and federal/state cooperation. The workshops will begin the process of developing a rulemaking on the market design and structure to be implemented through a pro forma tariff applicable to all public utilities and RTOs.

The workshops are open for the public to attend. There will be ample opportunity for public input in the rulemaking process, subsequent to the workshops. The Commission is inviting selected panelists on these topics to participate in these workshops; it is not at this time entertaining requests to make presentations. Additional details about the workshops will be provided in a subsequent notice, and will be posted on the Commission's web site under RTO Activities.

Linwood A. Watson, Jr.,
Deputy Secretary.

[FR Doc. 01-24969 Filed 10-4-01; 8:45 am]

BILLING CODE 6717-01-P